DEPARTMENT OF COMMERCE

National Oceanic and Atmospheric Administration

Proposed Information Collection; Comment Request; Evaluation of the Coastal Management Fellowship Program

AGENCY: National Oceanic and Atmospheric Administration (NOAA), DOC.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before July 17, 2006.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instruments and instructions should be directed to Thomas Fish, NOAA Coastal Services Center, Ph: (843) 740-1271, or tom.fish@noaa.gov.

SUPPLEMENTARY INFORMATION:

I. Abstract

The NOAA Coastal Services Center (CSC) conducts the Coastal Management Fellowship, which provides on-the-job education and training opportunities in coastal resource management and policy for postgraduate students as well as project assistance to state coastal zone management programs. CSC is seeking a new clearance to conduct data collection activities associated with the evaluation of the fellowship program. The evaluation is designed to assess the effectiveness of the fellowship and its impact on state coastal zone programs to address high priority coastal issues. The results of the evaluation will provide information on the success of the Coastal Management Fellowship Program in meeting its goals to train young professionals entering the coastal management field and to help states address high priority coastal issues.

Four types of respondents are included in the evaluation: Fellows (past and current), finalists to the fellowship (past and current), state coastal zone program mentors, and partner organizations. Current and past fellows will complete an electronic survey that assesses both their fellowship experience and subsequent professional goals/experiences. Also, current and past finalists will complete a telephone interview that evaluates both their experiences applying to the fellowship program and subsequent professional goals/experiences. State coastal zone program mentors will complete an electronic survey that assesses their experiences with the fellowship program and the impact of the program on their state coastal zone program. In addition, partner organizations will complete an electronic survey that assesses their experiences with the fellowship and how the fellowship has impacted CSC.

II. Method of Collection

Electronic surveys and telephone interviews will be the modes of collection.

III. Data

OMB Number: None.

Form Number: None.

Type of Review: Regular submission.

Affected Public: Individuals or households; not for-profit institutions.

Estimated Number of Respondents: 68.

Estimated Time per Response: Telephone interviews, 25 minutes; surveys, 1 hour and15 minutes.

Estimated Total Annual Burden Hours: 41.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: May 11, 2006.
Gwellnar Banks,
Management Analyst, Office of the Chief Information Officer.

[FR Doc. 06-4583 Filed 5-15-06; 8:45 am]

BILLING CODE 3510-08-P